DEPARTMENT OF COMMERCE

Submission for OMB Review; Comment Request

The Department of Commerce will submit to the Office of Management and Budget (OMB) for clearance the following proposal for collection of information under the provisions of the Paperwork Reduction Act (44 U.S.C. chapter 35).

Agency: U.S. Census Bureau.

Title: Manufacturers' Unfilled Orders (M3UFO) Survey.

OMB Control Number: 0607-0561.

Form Number(s): MA-3000.

Type of Request: Extension of a currently approved collection.

Number of Respondents: 6,000.

Average Hours per Response: 30 minutes.

Burden Hours: 3,000.

Needs and Uses: The Manufacturers' Shipments, Inventories, and Orders (M3) survey collects monthly data on shipments, inventories, new orders, and unfilled orders from manufacturing companies. The orders, as well as the shipments and inventories data, are widely used and are valuable tools for analysts of business cycle conditions, including members of the Council of Economic Advisers, Bureau of Economic Analysis, Federal Reserve Board, Conference Board, and the business community.

New orders serve as an indicator of future production commitments and the data are direct inputs into the leading economic indicator series. New orders are derived by adding shipments to the net change in the unfilled orders from the previous month. The ratio of unfilled orders to shipments is an important indicator of pressure on manufacturing capacity.

The monthly M3 estimates are based on a relatively small panel of domestic manufacturers and reflect primarily the month-to-month changes of large companies. There is a clear need for periodic benchmarking of the M3 estimates to reflect the manufacturing universe. The Economic Census, which covers the entire manufacturing sector, and the Annual Survey of Manufactures (ASM) provide annual benchmarks for the shipments and inventories data in the monthly M3 survey. The Manufacturers' Unfilled Orders Survey (M3UFO), the subject of this request, provides the annual benchmarks for the unfilled orders data.

The industries selected for the M3UFO survey are those which the U.S. Census Bureau determined to have considerable unfilled orders. The survey is necessary to ensure future accuracy of the unfilled orders and new orders data in the M3 survey and to determine which North American Industry Classification System (NAICS) industries continue to maintain unfilled orders.

Report forms are mailed to approximately 6,000 companies requesting data for 42 of the M3 Survey's 92 NAICS defense and nondefense industry categories.

The Census Bureau uses the information provided by this survey to develop universe estimates of unfilled orders for the end of each fiscal year, and then to adjust the monthly M3 data on unfilled orders to these levels. The benchmarked unfilled orders levels are used to derive estimates of new orders received by manufacturers.

Affected Public: Business or other for-profit.

Frequency: Annually.

Respondent's Obligation: Mandatory.

Legal Authority: Title 13 U.S.C., Sections 131 and 182.

This information collection request may be viewed at www.reginfo.gov. Follow the instructions to view Department of Commerce collections currently under review by OMB.

Written comments and recommendations for the proposed information collection should be sent within 30 days of publication of this notice to OIRA_Submission@omb.eop.gov or fax to (202) 395-5806.

Dated: October 5, 2015.
Glenna Mickelson,
Management Analyst, Office of the Chief Information Officer.

[FR Doc. 2015-25692 Filed 10-8-15; 8:45 am]

BILLING CODE 3510-07-P